COUNCIL ON ENVIRONMENTAL QUALITY

[CEQ-2022-0002]

Climate and Economic Justice Screening Tool Beta Version

AGENCY: Council on Environmental Quality.

ACTION: Request for information.

SUMMARY: The Council on Environmental Quality is issuing this request for information (RFI) to solicit feedback on the beta version of the Climate and Economic Justice Screening Tool.

DATES: Responses to this RFI should be received by April 25, 2022.

ADDRESSES: You may submit comments, identified by docket number CEQ-2022-0002, by any of the following methods:

• Federal eRulemaking Portal: https://www.regulations.gov. Follow the instructions for submitting comments.

• Fax: 202-456-6546.

• Mail: Council on Environmental Quality, 730 Jackson Place NW, Washington, DC 20503.

All submissions received must include the agency name, “Council on Environmental Quality,” and the docket number, CEQ-2022-0002, for this RFI. All comments received will be posted without change to https://www.regulations.gov, including any personal information provided. Do not submit electronically any information you consider to be private, Confidential Business Information (CBI), or other information the disclosure of which is restricted by statute.

You may respond to some or all of the questions listed in the RFI. You may include references to academic literature or links to online material (such as datasets) but please ensure all links are publicly available. Each response should include:

• The name of the individual(s) or entity responding.

• A brief description of the responding individual(s) or entity's mission or areas of expertise.

• A contact for questions or other follow-up on your response.

FOR FURTHER INFORMATION CONTACT: Issues regarding submission or questions on this RFI can be sent to Sharmila L. Murthy at 202-395-5750 or Sharmila.L.Murthy@ceq.eop.gov.

SUPPLEMENTARY INFORMATION:

I. Background

Executive Order 14008, “Tackling the Climate Crisis at Home and Abroad,” charged the Council on Environmental Quality (CEQ) with creating a geospatial Climate and Economic Justice Screening Tool and publishing interactive maps highlighting disadvantaged communities that are marginalized, underserved, and overburdened by pollution. Federal agencies will use the tool in implementation of the Justice40 Initiative goal of directing 40 percent of the overall benefits of certain Federal investments to disadvantaged communities in climate, clean energy and energy efficiency, clean transit, affordable and sustainable housing, training and workforce development, clean water infrastructure, and the remediation of legacy pollution. The function of the tool is to employ indicators for the purpose of identifying communities that exhibit conditions of underinvestment in energy, transit, housing and water infrastructure, disproportionate pollution burden, and job training and employment. Agencies will use the tool to guide program investments in the areas noted above under the Justice40 Initiative.

CEQ has developed a beta version of the Climate and Economic Justice Screening Tool, which is available at https://screeningtool.geoplatform.gov. Under the current methodology (v0.1) in the Climate and Economic Justice Screening Tool, a census tract will be considered disadvantaged if (1) it is above the threshold for one or more climate or environmental indicator; and (2) it is above the threshold for one or more socioeconomic indicator. The methodology and the datasets currently being used are available at https://screeningtool.geoplatform.gov/en/methodology.

II. Key Questions for Input

Through this request for information, CEQ seeks input, information, and recommendations on the beta version of the Climate and Economic Justice Screening Tool from a broad array of stakeholders in the public, private, advocacy, not-for-profit, academic, and philanthropic sectors, as well as from state, Tribal, and local governments, and territorial areas. In addition, users have the opportunity to provide feedback through an online survey available at https://www.surveymonkey.com/r/cejst-survey. CEQ will use responses to this RFI and comments received through the online survey to consider potential updates to the beta version of the Climate and Economic Justice Screening Tool. After CEQ has updated the tool with any modifications that are deemed necessary, Federal agencies will use the Climate and Economic Justice Screening Tool to implement the President's Justice40 commitment.¹

¹ When the updated Climate and Economic Justice Screening Tool is ready to be used by agencies in their Justice40 implementation plans, CEQ, OMB and CPO will together issue updated guidance. Currently, the Interim Implementation Guidance for the Justice40 Initiative, M-21-28, issued on July 20, 2021, is still in effect. See https://www.whitehouse.gov/wp-content/uploads/2021/07/M-21-28.pdf.

Respondents to this RFI do not need to address every question, but CEQ seeks and welcomes input in the following areas:

1. Methodology: Please refer to the Climate and Economic Justice Screening Tool website for more information regarding the methodology (available at https://screeningtool.geoplatform.gov/en/methodology).

a. Given the function and role of the Climate and Economic Justice Screening Tool in identifying disadvantaged communities to support the Justice40 Initiative, please provide comments and recommendations for improving the methodology used to identify disadvantaged communities.

b. Recognizing the role of the tool in identifying disadvantaged communities for Justice40 investment benefits across agencies and programs, how can the tool's methodology incorporate a cumulative impacts approach that quantitatively measures the combined adverse factors that contribute to the conditions that Justice40 is intending to address?

2. Datasets: Data in this beta version of the tool provides measures for socioeconomic status and in the areas of climate, clean energy and energy efficiency, clean transit, affordable and sustainable housing, training and workforce development, clean water infrastructure, and the remediation of legacy pollution.

a. What recommendations for additional datasets would enhance and improve upon the set of indicators currently used in the Climate and Economic Justice Screening Tool? In your comments, please include why and how the data recommendations would improve upon the current set of data and/or indicators used in the tool.

b. In your response, please include the following:

i. Full information regarding data sources (including url, government agency, and/or organization);

ii. Intended measure—what does the dataset and/or indicator measure (for example, pollution exposure or emissions, health conditions, energy accessibility, transportation access, etc.)?;

iii. Scope—does the recommended data and/or indicator include data from all 50 states and territories? If not, please provide comments as to how to address the issue;

iv. A summary of the quality (i.e., completeness, accuracy, consistency, and reliability) of the data for use in the tool; and

v. Geographic resolution of the data (i.e., census block, census tract, zip code, county, etc.).

3. Map Usability and Accessibility. The Climate and Economic Justice Screening Tool map (available at https://screeningtool.geoplatform.gov) provides an online geospatial platform that provides the user with the capability to identify the communities identified as disadvantaged by the Climate and Economic Justice Screening Tool methodology. We are soliciting information regarding usability and accessibility of the geospatial platform. Please provide recommendations on the following:

a. What modifications can improve the usability, accessibility, or design of the mapping functions that display the data and results of the Climate and Economic Justice Screening Tool?

b. Are there specific features or functions that will enhance the usability of the interactive map by community members and organizations, government staff, and other stakeholders?

4. Additional Feedback: What additional feedback would you like to provide on the beta version of the Climate and Economic Justice Screening Tool?

Brenda Mallory,
Chair.

[FR Doc. 2022-03920 Filed 2-22-22; 8:45 am]

BILLING CODE 3325-F2-P